FEDERAL COMMUNICATIONS COMMISSION

[MB Docket No. 19-156; DA 19-506]

Entertainment Media Trust, Dennis J. Watkins, Trustee; Hearing

AGENCY: Federal Communications Commission.

ACTION: Notice.

SUMMARY: This document commences a hearing to determine whether Entertainment Media Trust, Dennis J. Watkins, Trustee (EMT or the Trust) has committed violations of the Communications Act of 1934, as amended and/or the rules and regulations of the Federal Communications Commission. The hearing will determine whether the applications for license renewal should be denied and licenses should be cancelled for four AM radio stations: KFTK-AM (formerly WQQX-AM), Facility ID No. 72815, East St. Louis, Illinois, File No. BR-20120709ACP; WQQW-AM, Facility ID No. 90598, Highland, Illinois, File No. BR-20120709AC0; KZQZ-AM, Facility ID No. 72391, St. Louis, Missouri, File No. BR-20120921AAW; and KQQZ-AM Facility ID No. 5281, DeSoto, Missouri, File No. BR-20120921ABA. The hearing will also determine whether the stations' respective assignment of license applications, File Nos. BAL-20160919ADH, BAL-20160919ADI, BAL-20160919ADJ, and BAL-20160919ADK should be dismissed, and applications to construct a new FM translator station W275CS, Highland, Illinois, Facility ID No. 200438, File Nos. BNPFT-20170726AEF and BNPFT-20180314AAO to retransmit one of the stations should be dismissed.

DATES: Each party to the proceeding (except for the Chief, Enforcement Bureau), in person or by counsel, shall file with the Commission, by June 25, 2019, a written appearance stating that the party will appear on the date fixed for hearing and present evidence on the issues specified herein.

ADDRESSES: Federal Communications Commission, 445 12th Street SW, Washington, DC 20554.

FOR FURTHER INFORMATION CONTACT: Irene Bleiweiss, 202-418-2700.

SUPPLEMENTARY INFORMATION: This is a synopsis of the Commission's Hearing Designation Order and Notice of Opportunity for Hearing (Order), MB Docket No. 19-156, adopted June 5, 2019, and released June 5, 2019. The full text of this Commission decision is available for inspection and copying during normal business hours in the FCC's Reference Information Center at Portals II, CY-A257, 445 12th Street, SW, Washington, DC 20554. The full text is also available online at http://apps.fcc.gov/ecfs/. This document is available in alternative formats (computer diskette, large print, audio record, and Braille). Persons with disabilities who need documents in these formats may contact the FCC by email: FCC504@fcc.gov or phone: 202-418-0530 or TTY: 202-418-0432.

Synopsis

1. In the Order, the Commission commences a hearing proceeding before the Administrative Law Judge to determine whether Entertainment Media Trust, Dennis J. Watkins, Trustee (EMT or the Trust) has committed violations of the Communications Act of 1934, as amended (Act) and/or the rules and regulations (Rules) of the Federal Communications Commission (Commission) and, as a consequence, whether EMT's captioned applications for license renewal should be denied, those station licenses accordingly cancelled, and applications to construct a new FM translator station to retransmit one of the stations should be dismissed.

2. Between 2006 and 2010, EMT purchased four AM radio stations: KFTK(AM) (formerly WQQX(AM)), WQQW(AM), KZQZ(AM), and KQQZ(AM) (collectively, Stations) in the St. Louis market. EMT filed renewal applications for each of these Stations in 2012. On November 1, 2012, Mark A. Kern (Kern), a local resident and listener of the Stations, filed a petition to deny EMT's renewal applications, in which he asserted that EMT “is a straw party for Robert Romanik, a convicted felon, who exercises de facto control of the Stations.” A Commission investigation confirmed that Robert S. Romanik (Romanik), who has been convicted of felony offenses (obstruction of justice and bank fraud), established EMT and provided all of EMT's funds for the acquisition of the Stations, but was not listed as a party in any of EMT's Commission applications. The investigation found additional evidence supporting Kern's claim that Romanik exercises de facto control over the Stations, including evidence that Romanik identified himself as a radio station owner on various forms disclosing his political contributions, purported to assign EMT's beneficial interest in the Stations to his longtime girlfriend, Katrina M. Sanders, and participated in negotiations involving a Local Programming and Marketing Agreement with Emmis Radio, LLC for KFTK in 2016. In addition, the investigation showed that the document that EMT now identifies as its trust instrument was executed on December 19, 2012 (after Kern's 2012 Petition to Deny and well after EMT acquired the Stations) and does not contain provisions insulating Romanik from attribution of EMT's interests in the Stations under the Commission's ownership attribution policies.

3. The Commission's investigation was impeded by EMT's failure or inability to provide responsive information. The Commission's hearing process provides a more complete set of discovery tools to develop a fuller factual record.

4. Based on the totality of the evidence before the Commission, we find there are substantial and material questions of fact as to whether:

(a) There has been an undisclosed de facto transfer of control of the Stations to Romanik and thus whether he is a real party-in-interest to the pending applications;

(b) EMT engaged in misrepresentation and/or lack of candor in its applications and other communications with the Commission; and

(c) the Trust shields Romanik or the Trust's beneficiaries from holding attributable interests in the Stations under the Commission's ownership attribution policies.

5. Accordingly, it is ordered, pursuant to sections 309(d), 309(e), and 309(k) of the Act, 47 U.S.C. 309(d), 47 U.S.C. 309(e), and 47 U.S.C. 309(k), that the captioned Renewal Applications, Assignment Applications, and Translator Applications are designated for hearing in a consolidated proceeding before an FCC Administrative Law Judge, at a time and place to be specified in a subsequent Order, upon the following issues:

(a) To determine whether Entertainment Media Trust, Dennis J. Watkins, Trustee is (and/or has been, during the most recent license term) exercising affirmative control of Stations KFTK(AM) (formerly WQQX(AM)), WQQW(AM), KZQZ(AM), and KQQZ(AM).

(b) To determine whether there has been a de facto transfer of control of Stations KFTK(AM) (formerly WQQX(AM)), WQQW(AM), KZQZ(AM), and KQQZ(AM) to Robert S. Romanik in violation of section 310(d) of the Act, either occurring in the most recent license term or continuing during that license term.

(c) To determine whether Robert S. Romanik is (and/or has been, during the most recent license term) a real-party-in-interest to the captioned applications for Stations KFTK(AM) (formerly WQQX(AM)), WQQW(AM), KZQZ(AM), KQQZ(AM), and W275CS, both before and after Stephen Romanik's death.

(d) To determine whether Entertainment Media Trust, Dennis J. Watkins, Trustee or Dennis J. Watkins engaged in misrepresentation and/or lack of candor in applications and communications with the Commission or otherwise violated 47 CFR 1.17 during the most recent license term with respect to matters involving Stations KFTK(AM) (formerly WQQX(AM)), WQQW(AM), KZQZ(AM), KQQZ(AM), and W275CS.

(e) To determine whether Entertainment Media Trust, Dennis J. Watkins, Trustee, shields the grantor or the beneficiary from the ownership attribution requirements under section 73.3555 of the Commission's rules.

(f) To determine, in light of the evidence adduced pursuant to the foregoing issues, whether the captioned license renewal applications should be granted.

(g) To determine, in light of the foregoing issues, whether the captioned application for consent to assignment of the licenses of Stations KFTK(AM) (formerly WQQX(AM)), WQQW(AM), KZQZ(AM), and KQQZ(AM) should be granted, denied or dismissed.

(h) To determine, in light of the foregoing issues, whether the captioned applications for a permit to construct FM translator Station W275CS should be granted, denied or dismissed.

6. It is further ordered that, pursuant to sections 309(d), 309(e) and 309(k) of the Act and section 1.221(c) of the Commission's rules, 47 U.S.C. 309(d), 47 U.S.C. 309(e), U.S.C. 309(k), and 47 CFR 1.221(c), to avail itself of the opportunity to be heard and to present evidence at a hearing in this proceeding, Entertainment Media Trust, Dennis J. Watkins, Trustee, in person or by an attorney, shall file with the Commission, within 20 calendar days of the release of the Order, a written appearance stating that it will appear at the hearing and present evidence on the issues specified above.

7. It is further ordered that, pursuant to section 1.221(c) of the Commission's rules, 47 CFR 1.221(c), if Entertainment Media Trust, Dennis J. Watkins, Trustee fails to file, within 20 calendar days of the release of the Order, a written appearance, a petition to dismiss without prejudice, or a petition to accept for good cause shown an untimely written appearance, the captioned applications shall be dismissed with prejudice for failure to prosecute.

8. It is further ordered that the Chief, Enforcement Bureau, shall be made a party to this proceeding without the need to file a written appearance.

9. It is further ordered that Mark A. Kern shall be made a party to this proceeding in his capacity as a petitioner to one or more of the captioned applications.

10. It is further ordered that, pursuant to section 309(e) of the Act, 47 U.S.C. 309(e), and section 1.254 of the Commission's rules, 47 CFR 1.254, the burden of proceeding with the introduction of evidence and the burden of proof shall be upon Entertainment Media Trust, Dennis J. Watkins, Trustee as to all the issues at Paragraph 5 above.

11. It is further ordered that a copy of each document filed in this proceeding subsequent to the date of adoption of this document shall be served on the counsel of record appearing on behalf of the Chief, Enforcement Bureau. Parties may inquire as to the identity of such counsel by calling the Investigations & Hearings Division of the Enforcement Bureau at (202) 418-1420. Such service copy shall be addressed to the named counsel of record, Investigations & Hearings Division, Enforcement Bureau, Federal Communications Commission, 445 12th Street SW, Washington, DC 20554.

12. It is further ordered that Entertainment Media Trust, Dennis J. Watkins, Trustee, pursuant to section 311(a)(2) of the Act, 47 U.S.C. 311(a)(2), and section 73.3594 of the Commission's rules, 47 CFR 73.3594, shall give notice of the hearing within the time and in the manner prescribed in such Rules, and shall advise the Commission of the publication of such notice as required by section 73.3594(g) of the Commission's rules, 47 CFR 73.3594(g).

13. It is further ordered that copies of the Hearing Designation Order and Notice of Opportunity for Hearing shall be sent via Certified Mail, Return Receipt Requested, and by regular first class mail to the following: Entertainment Media Trust, Dennis J. Watkins, Trustee, 6500 West Main Street, Suite 315, Belleville, IL 62223; Anthony Lepore, Esq., P.O. Box 823662, South Florida, FL 33082-3662; Davina S. Sashkin, Esq., Fletcher, Heald & Hildreth, 1300 North 17th Street, 11th Floor, Arlington, VA 22209; Mark A. Kern, 111 South High Street, Belleville, IL 62220; Richard A. Helmick, Esq., and Howard M. Liberman, Esq., 1800 M Street NW, Suite 800N, Washington, DC 20036.

14. It is further ordered that a copy of this document, or a summary thereof, shall be published in the Federal Register.

Federal Communications Commission.
Thomas Horan,
Chief of Staff, Media Bureau.

[FR Doc. 2019-12479 Filed 6-12-19; 8:45 am]

BILLING CODE 6712-01-P